SMALL BUSINESS ADMINISTRATION

[Declaration of Disaster #3529]

State of Kansas

Seward County and the contiguous counties of Haskell, Meade, and Stevens in the State of Kansas; and Beaver and Texas Counties in the State of Oklahoma constitute a disaster area due to a severe thunderstorm accompanied by large hail and flooding that occurred on June 28 and June 29, 2003. Applications for loans for physical damage as a result of this disaster may be filed until the close of business on September 15, 2003 and for economic injury until the close of business on April 19, 2004 at the address listed below or other locally announced locations: U.S. Small Business Administration, Disaster Area 3 Office, 4400 Amon Carter Boulevard, Suite 102, Forth Worth, TX 76155.

The interest rates are:

| Percent
For Physical Damage:
Homeowners with Credit Available Elsewhere: | 5.625
Homeowners Without Credit Available Elsewhere: | 2.812
Businesses with Credit Available Elsewhere: | 5.906
Businesses and Non-profit Organizations Without Credit Available Elsewhere: | 2.953
Others (Including Non-profit Organizations) with Credit Available Elsewhere: | 5.500
For Economic Injury:
Businesses and Small Agricultural Cooperatives Without Credit Available Elsewhere: | 2.953

The numbers assigned to this disaster for physical damage are 352911 for Kansas and 353011 for Oklahoma. For economic injury, the numbers are 9W4400 for Kansas and 9W4500 for Oklahoma.

(Catalog of Federal Domestic Assistance Program Nos. 59002 and 59008)

Dated: July 17, 2003.
Hector V. Barreto,
Administrator.

[FR Doc. 03-18987 Filed 7-24-03; 8:45 am]

BILLING CODE 8025-01-P